DEPARTMENT OF THE INTERIOR

Bureau of Indian Affairs

[190A2100DD/AAKC001030/A0A501010.999900 253G]

Rate Adjustments for Indian Irrigation Projects

Correction

In notice document 2018-27726 appearing on pages 65714-65719 in the issue of Friday, December 21, 2018, make the following corrections:

1. On page 65717, the table “Northwest Region Rate Table” should appear as set forth below:

Northwest Region Rate Table
Project name | Rate category | Final 2018 rate | Final 2019 rate | Proposed 2020 rate
Flathead Irrigation Project | Basic per acre—A | $29.00 | $33.50 | $33.50
| Basic per acre—B | 14.50 | 16.75 | 16.75
| Minimum Charge per tract | 75.00 | 75.00 | 75.00

Project name | Rate category | Final 2018 rate | Proposed 2019 rate | Proposed 2020 rate
Fort Hall Irrigation Project (See Note #1) | Basic per acre * | $56.00 | $57.00 | $58.50
| Minimum Charge per tract | 39.00 | 39.00 | 39.00
Fort Hall Irrigation Project—Minor Units (See Note #1) | Basic per acre * | 35.00 | 37.00 | 38.00
| Minimum Charge per tract | 39.00 | 39.00 | 39.00
Fort Hall Irrigation Project—Michaud Unit (See Note #1) | Basic per acre * | 59.50 | 62.00 | 63.50
| Pressure per acre * | 92.50 | 96.00 | 98.50
| Minimum Charge per tract | 39.00 | 39.00 | 39.00

Project name | Rate category | Final 2018 rate | Final 2019 rate | Proposed 2020 rate
Wapato Irrigation Project—Toppenish/Simcoe Units | Minimum Charge per bill | $25.00 | $25.00 | $25.00
| Basic per acre | 25.00 | 25.00 | 25.00
Wapato Irrigation Project—Ahtanum Units | Minimum Charge per bill | 30.00 | 30.00 | 30.00
| Basic per acre | 30.00 | 30.00 | 30.00
Wapato Irrigation Project—Satus Unit | Minimum Charge per bill | 79.00 | 79.00 | 79.00
| “A” Basic per acre | 79.00 | 79.00 | 79.00
| “B” Basic per acre | 85.00 | 85.00 | 85.00
Wapato Irrigation Project—Additional Works | Minimum Charge per bill | 80.00 | 80.00 | 80.00
| Basic per acre | 80.00 | 80.00 | 80.00
Wapato Irrigation Project—Water Rental | Minimum Charge per bill | 86.00 | 86.00 | 86.00
| Basic per acre | 86.00 | 86.00 | 86.00

2. On page 65718, the table “Southwest Region Rate Table” should appear as set forth below:

Southwest Region Rate Table
Project name | Rate category | Final 2018 rate | Final 2019 rate | Proposed 2020 rate
Pine River Irrigation Project | Minimum Charge per tract | $50.00 | $50.00 | $50.00
| Basic-per acre * | 20.00 | 21.00 | 21.50

3. On page 65718, the table heading “Northwest Region Rate Table” should read “Western Region Rate Table”.

[FR Doc. C1-2018-27726 Filed 2-6-19; 8:45 am]

BILLING CODE 1301-00-D